DEPARTMENT OF HEALTH AND HUMAN SERVICES

National Institutes of Health

Proposed Collection; 60-Day Comment Request; International Research Fellowship Award Program of the (National Institute on Drug Abuse)

AGENCY: National Institutes of Health, HHS.

ACTION: Notice.

SUMMARY: In compliance with the requirement of the Paperwork Reduction Act of 1995 to provide opportunity for public comment on proposed data collection projects, the National Institute on Drug Abuse (NIDA), will publish periodic summaries of propose projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dr. Steve Gust, Director, NIDA International Program, National Institute on Drug Abuse, National Institutes of Health, 6001 Executive Blvd. Bethesda, Maryland 20892-0234, or call non-toll-free number (301) 402-1118 or Email your request, including your address to: sgust@nida.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: International Research Fellowship Award Program 0925-0733, Expiration date February 28, 2019, REVISION, National Institute on Drug Abuse, National Institutes of Health.

Need and Use of Information Collection: The purpose of this information collection is to identify participants for matriculation into the program. The proposed information is necessary to select the best applicants for the fellowship program. An application form to obtain information about the potential of fellows for successful training in HIV and drug use research is necessary. The information ensures that fellows applying to these programs meet eligibility requirements for research and indicates their potential as future scientists.

OMB approval is requested for 3 years. There are no costs to respondents other than their time. The total estimated annualized burden hours are 83.

Estimated Annualized Burden Hours
Type of respondent | Form | Number of respondents | Number of responses per respondent | Average time per response (in hours) | Total annual burden hour
Applicant Scientists | Applicant Information | 45 | 1 | 1 | 45
Scientists | Mentor Information | 45 | 1 | 20/60 | 15
Total |  | 90 | 90 |  | 60

Dated: November 27, 2018.
Genevieve deAlmeida,
Project Clearance Liaison, National Institute on Drug Abuse, National Institutes of Health.

[FR Doc. 2018-27107 Filed 12-13-18; 8:45 am]

BILLING CODE 4140-01-P